DEPARTMENT OF THE INTERIOR

Bureau of Ocean Energy Management, Regulation and Enforcement

Intent To Prepare a Supplemental Environmental Impact Statement: Outer Continental Shelf, Alaska OCS Region, Chukchi Sea Planning Area, Oil and Gas Lease Sale 193

AGENCY: Bureau of Ocean Energy Management, Regulation and Enforcement (BOEMRE), Interior.

ACTION: Notice.

SUMMARY: The Bureau of Ocean Energy Management, Regulation and Enforcement (BOEMRE) is giving notice of its intent to publish a Supplemental Environmental Impact Statement for Outer Continental Shelf (OCS) Oil and Gas Lease Sale 193 in the Chukchi Sea Planning Area, Alaska. This Supplementary EIS will provide new analysis in response to a remand by the United States District Court for the District of Alaska.

ADDRESSES: Address all comments concerning this notice to Deborah Cranswick, Chief, Environmental Analysis Section I, Bureau of Ocean Energy Management, Regulation and Enforcement, Alaska OCS Region, 3801 Centerpoint Drive, Suite 500, Anchorage, Alaska 99503-5820.

FOR FURTHER INFORMATION CONTACT: Deborah Cranswick, 907-334-5267.

SUPPLEMENTARY INFORMATION: 1. Authority: The NOI is published pursuant to the regulations (40 CFR 1508.22(b)) implementing the provisions of the National Environmental Policy Act of 1969, as amended (42 U.S.C. 4321 et seq.) (NEPA).

2. Purpose of Notice of Intent: Pursuant to the regulations (40 CFR 1508.22) implementing the procedural provisions of NEPA, the BOEMRE is announcing its intent to prepare a Supplemental EIS for OCS Oil and Gas Lease Sale 193 in the Chukchi Sea Planning Area, Alaska. The Supplemental EIS will supplement the analysis from the Lease Sale 193 Final EIS (OCS EIS/EA MMS 2007-0026) by: (1) Analyzing the environmental impact of natural gas development; (2) determining whether missing information identified by BOEMRE is relevant or essential to the decisionmaking under 40 CFR 1502.22; and (3) determining whether the cost of obtaining the missing information is exorbitant, or the means of obtaining the information is unknown. The Final EIS for Sale 193 evaluated the potential effects of the proposed sale and three alternatives, which included no action and two configurations to defer areas from leasing along the coast adjacent to the proposed sale area. The Final EIS evaluated the potential effects of exploration seismic surveying and drilling; oil development, production, and transportation; and accidental crude oil spills.

3. Scoping: In accordance with 40 CFR 1502.9(c)(4), there will be no scoping conducted for this SEIS. The scope of the Final EIS for Sale 193 and the remand by the United States District Court for the District of Alaska establish the scope for this SEIS. A Notice of Availability of the draft Supplemental EIS for public review and comment will be announced: (1) In the Federal Register by BOEMRE and the Environmental Protection Agency; (2) on the BOEMRE, Alaska OCS Region, homepage; and (3) in the local media. Public hearings will be held following release of the Draft Supplemental EIS. Dates and locations will be determined and published at a later date.

4. Cooperating Agencies: The DOI policy is to invite other Federal agencies, and State, Tribal, and local governments to consider becoming cooperating agencies in the preparation of an EIS. Council on Environmental Quality (CEQ) regulations state that qualified agencies and governments are those with “jurisdiction by law or special expertise.” Potential cooperating agencies should consider their authority and capacity to assume the responsibilities of a cooperating agency. Cooperating agency status neither enlarges nor diminishes the final decisionmaking authority of any agency involved in the NEPA process. The BOEMRE invites qualified government entities to inquire about cooperating agency status for this Supplemental EIS. Upon request, the BOEMRE will provide qualified cooperating agencies with a written summary of ground rules for cooperating agencies, including time schedules and critical action dates, milestones, responsibilities, scope and detail of cooperating agencies' contributions, and handling of pre-decisional information. The BOEMRE anticipates this summary will form the basis for a Memorandum of Understanding between the BOEMRE and each cooperating agency. You should also consider the CEQ's “Factors for Determining Cooperating Agency Status.” This document is available on the CEQ Web site at: http://ceq.hss.doe.gov/nepa/regs/cooperating/cooperatingagencymemofactors.html. Even if your organization is not a cooperating agency, you will have an opportunity to provide information and comments to BOEMRE during the comment phase of the NEPA/EIS process. Additional information may be found at the following Web site: http://alaska.boemre.gov.

Dated: September 28, 2010.
Robert P. LaBelle,
Acting Associate Director for Offshore Energy and Minerals Management.

[FR Doc. 2010-25038 Filed 10-4-10; 8:45 am]

BILLING CODE 4310-MR-P